DEPARTMENT OF COMMERCE

National Oceanic and Atmospheric Administration

50 CFR Part 635

[I.D. 061500D]

Atlantic Highly Migratory Species Fisheries; Atlantic Bluefin Tuna

AGENCY: National Marine Fisheries Service (NMFS), National Oceanic and Atmospheric Administration (NOAA), Commerce.

ACTION: Harpoon category closure.

SUMMARY: NMFS has determined that the Atlantic bluefin tuna (BFT) Harpoon category annual quota for the 2000 fishing year will be attained by June 26, 2000. Therefore, the 2000 Harpoon category fishery will be closed effective at 11:30 p.m. on June 26, 2000. This action is being taken to prevent overharvest of the Harpoon category quota.

DATES: Effective 11:30 p.m. local time on June 26, 2000, through May 31, 2001.

FOR FURTHER INFORMATION CONTACT: Pat Scida or Brad McHale, 978-281-9260.

SUPPLEMENTARY INFORMATION: Regulations implemented under the authority of the Atlantic Tunas Convention Act (16 U.S.C. 971 et seq.) governing the harvest of BFT by persons and vessels subject to U.S. jurisdiction are found at 50 CFR part 635. Section 635.27(a) subdivides the U.S. quota recommended by the International Commission for the Conservation of Atlantic Tunas (ICCAT) among the various domestic fishing categories.

Harpoon Category Closure

NMFS is required, under § 635.28 (a)(1), to file with the Office of the Federal Register for publication notification of closure when a BFT quota is reached or is projected to be reached. On and after the effective date and time of such notification, for the remainder of the fishing year or for a specified period as indicated in the notice, fishing for, retaining, possessing, or landing BFT under that quota category is prohibited until the opening of the subsequent quota period or until such date as specified in the notice.

The proposed 2000 BFT quota specifications issued pursuant to 50 CFR 635.27 would set a quota of 54.1 mt of large medium and giant BFT to be harvested from the regulatory area by vessels permitted in the Harpoon category during the 2000 fishing year (65 FR 33513, May 24, 2000). NMFS expects to issue final quota specifications by early July 2000, and based on comments received and the international quota mandated by ICCAT, does not anticipate changes to the proposed Harpoon category quota. Based on reported landings and effort, NMFS projects that this quota will be reached by June 26, 2000. Therefore, fishing for, retaining, possessing, or landing large medium or giant BFT by vessels in the Harpoon category must cease at 11:30 p.m. local time on June 26, 2000.

The intent of this closure is to prevent overharvest of the quota proposed for the Harpoon category. In the event the Harpoon category landings amount to less than the final Harpoon category quota, NMFS would consider reopening the fishery.

Classification

This action is taken under §§ 635.27(a) and 635.28 (a)(1) and is exempt from review under Executive Order 12866.

Authority: 16 U.S.C. 971 et seq. and 1801 et seq.

Dated: June 26, 2000.
Bruce C. Morehead,
Acting Director, Office of Sustainable Fisheries, National Marine Fisheries Service.

[FR Doc. 00-16526 Filed 6-26-00; 4:35 pm]

BILLING CODE 3510-22-F